DEPARTMENT OF THE INTERIOR

Fish and Wildlife Service

Aquatic Nuisance Species Task Force Meeting

AGENCY: Fish and Wildlife Service, Interior.

ACTION: Notice of meeting.

SUMMARY: This notice announces a meeting of the Aquatic Nuisance Species (ANS) Task Force. The meeting topics are identified in the SUPPLEMENTARY INFORMATION.

DATES: The Aquatic Nuisance Species Task Force will meet from 8 a.m. to 5:30 p.m., Tuesday, May 13, 2003; and from 8 a.m. to 2:30 p.m., Wednesday, May 14, 2003.

ADDRESSES: The ANS Task Force meeting will be held at the Radisson Hotel New Orleans, 1500 Canal Street, New Orleans, LA. Phone 504-522-4500.

FOR FURTHER INFORMATION CONTACT: Sharon Gross, Executive Secretary, Aquatic Nuisance Species Task Force at 703-358-2308 or by e-mail at: sharon_gross@fws.gov.

SUPPLEMENTARY INFORMATION: Pursuant to section 10(a)(2) of the Federal Advisory Committee Act (5 U.S.C. App. I), this notice announces a meeting of the Aquatic Nuisance Species Task Force. The Task Force was established by the Nonindigenous Aquatic Nuisance Prevention and Control Act of 1990.

Topics to be covered during the ANS Task Force meeting include: a field trip to view local invasive species problems; an update of activities from each of the Task Force's regional panels; status and updates from several other Task Force committees including the Outreach and Education Committee and the Prevention Committee; status of State and Interstate ANS Management Plans; an update on ballast water management activities; an update on the activities of the National Invasive Species Council; a discussion of rapid response planning efforts; a discussion on the National Aquatic Invasive Species Act; approval of the Chinese Mitten Crab Management Plan; and other topics.

Minutes of the meeting will be maintained by the Executive Secretary, Aquatic Nuisance Species Task Force, Suite 810, 4401 North Fairfax Drive, Arlington, Virginia 22203-1622, and will be available for public inspection during regular business hours, Monday through Friday.

Dated: April 4, 2003.
Jack Arnold,
Acting Co-chair, Aquatic Nuisance Species Task Force, Acting Assistant Director—Fisheries and Habitat Conservation.

[FR Doc. 03-9610 Filed 4-17-03; 8:45 am]

BILLING CODE 4310-55-M